DEPARTMENT OF COMMERCE

National Oceanic and Atmospheric Administration

[I.D. 092601C]

Marine Mammals; File No. 1003-1646

AGENCY: National Marine Fisheries Service (NMFS), National Oceanic and Atmospheric Administration (NOAA), Commerce.

ACTION: Issuance of permit.

SUMMARY: Notice is hereby given that Jennifer Burns, Ph.D., University of Alaska Anchorage, Department of Biological Sciences, 3211 Providence Drive, Anchorage, AK 99508, has been issued a permit to import specimens collected from Canadian populations of harbor seal (Phoca vitulina), hooded seal (Cystophora cristata), harp seal (Phoca groenlandica), and gray seal (Halichoerus grypus) for purposes of scientific research.

ADDRESSES: The permit and related documents are available for review upon written request or by appointment in the following office(s):

Permits and Documentation Division, Office of Protected Resources, NMFS, 1315 East-West Highway, Room 13705, Silver Spring, MD 20910; phone (301) 713-2289; fax (301) 713-0376;

Alaska Region, NMFS, P.O. Box 21668, Juneau, AK 99802-1668; phone (907) 586-7221; fax (907) 586-7249.

FOR FURTHER INFORMATION CONTACT: Amy Sloan or Ruth Johnson, (301) 713-2289.

SUPPLEMENTARY INFORMATION: On August 23, 2001, notice was published in the Federal Register (66 FR 44333) that a request for a scientific research permit to import specimens collected from Canadian populations of harbor seal (Phoca vitulina), hooded seal (Cystophora cristata), harp seal (Phoca groenlandica), and gray seal (Halichoerus grypus) had been submitted by the above-named individual. The requested permit has been issued under the authority of the Marine Mammal Protection Act of 1972, as amended (16 U.S.C. 1361 et seq.), and the Regulations Governing the Taking and Importing of Marine Mammals (50 CFR part 216).

Dated: October 15, 2001.
Eugene T. Nitta,
Acting Chief, Permits and Documentation Division, Office of Protected Resources, National Marine Fisheries Service.

[FR Doc. 01-26550 Filed 10-19-01; 8:45 am]

BILLING CODE 3510-22-S